DEPARTMENT OF AGRICULTURE

Forest Service

Lake County Resource Advisory Committee

AGENCY: Forest Service, USDA.

ACTION: Notice of meeting.

SUMMARY: The Lake County Resource Advisory Committee (RAC) will hold a meeting.

DATES: The meeting will be held on August 26, 2004, from 3:30 p.m. to 5 p.m.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-2361: e-mail dmcintosh@fs.fed.us.

SUPPLEMENTARY INFORMATION: Agenda items to be covered include: (1) Roll Call/Establish Quorum; (2) Review Minutes From the June 24, 2004, Meeting; (3) Discuss Other Business for 2004; (4) Strategy for Attending the Lake Co. Board of Supervisor's Meeting; (5) Letters to Congress on Retaining the RACs; (6) Discuss Project Cost Accounting USFS/County of Lake; (7) Set Next Meeting Date; (8) Public Comment Period; Public input opportunity will be provided and individuals will have the opportunity to address the Committee at that time. (9) Adjourn.

Dated: July 21, 2004.
Blaine P. Baker,
Designated Federal Officer.

[FR Doc. 04-17190 Filed 7-27-04; 8:45 am]

BILLING CODE 3410-11-M